DEPARTMENT OF ENERGY

Federal Energy Regulatory Commission

[Docket Nos. CP81-296, CP81-296-019, CP84-441l-033, CP86-251-003, CP87-75-010, CP87-85-002, CP87-131-009, CP87-132-016, CP87-358-007, CP88-171-033, CP89-629-036, CP90-639-021, CP91-433-002, CP91-1618-005, and CP91-2206-011]

Tennessee Gas Pipeline Company; Notice of Application To Amend Certificates of Public Convenience and Necessity

August 14, 2003.

Take notice that on August 11, 2003, Tennessee Gas Pipeline Company (Tennessee), a Delaware corporation, whose mailing address is Nine E. Greenway Plaza, Houston, Texas 77046, filed an application pursuant to Section 7(c) of the Natural Gas Act (“NGA”), 15 U.S.C. 717f(c), as amended, and the Regulations of the Federal Energy Regulatory Commission (Commission), 18 CFR Sections 157.5 et seq., Subpart A, requesting that the Commission amend certain Certificates of Public Convenience and Necessity that authorized the construction and operation of pipeline facilities located in the Northeast United States during the early 1980s through the early 1990s. Such facilities included laterals, metering facilities, pipeline looping and additional compression.

Copies of Tennessee's filing are on file with the Commission and are available for public inspection in the Public Reference Room and may also be viewed on the Commission's Web site at http://www.ferc.gov using the eLibrary (FERRIS) link. Enter the docket number (excluding the last three digits) in the docket number field to access the document. For assistance, please contact FERC Online Support at FERCOnlineSupport@ferc.gov or toll-free at (866) 208-3676, or TTY, contact (202) 502-8659. Any questions concerning this application may be directed to Dawn McGuire, Counsel, Tennessee Pipeline Company, 9 E Greenway Plaza, Houston, Texas 77046, call (832) 676-5503, fax (832) 676-2251.

Between 1981 and 1991, Tennessee filed certain applications to construct facilities in New Hampshire, Massachusetts, Connecticut, Rhode Island, New York, New Jersey and Pennsylvania. The environmental reports that Tennessee included in these filings incorporated a voluntary ban on the use of herbicides and pesticides as part of Tennessee's maintenance of its rights-of-way. Thereafter, the Commission integrated these voluntary restrictions as conditions to the Environmental Assessments, the Final Environmental Impact Statements, and ultimately the Certificate Orders for these projects.

Tennessee states that it has determined that a new set of challenges have resulted from its efforts to comply with self-imposed restrictions prohibiting the use of herbicides and pesticides. Tennessee states that it has determined that a new set of challenges have resulted from these efforts. Specifically, Tennessee says that invasive, poisonous plants located on Tennessee's rights-of-way now pose a potential danger to threatened and endangered plant species found adjacent to the rights-of-way. In addition, Tennessee explains that employees and contractors are exposed to threatening health situations as they attempt to control the invasive plants and harmful insects by means other than with herbicides or pesticides.

Tennessee proposes to maintain its rights-of-way, including fenced-in areas that Tennessee holds through easements, right of access agreements, or in fee, and to adhere to all state specific and local regulations, as they may change from time to time, for facilities authorized in the below-referenced filings. Therefore, Tennessee requests that the Commission amend the certificates so that they allow the use of herbicides and pesticides, as conditioned above, as tools for Tennessee's long-term maintenance of its rights-of-way.

There are two ways to become involved in the Commission's review of this proposed amendment. First, any person wishing to obtain legal status by becoming a party to the proceedings for this project should file with the Federal Energy Regulatory Commission, 888 First Street, NE., Washington, DC 20426, a motion to intervene or protest in accordance with the requirements of the Commission's Rules of Practice and Procedure (18 CFR 385.214 or 385.211) and the Regulations under the NGA (18 CFR 157.10). All such motions or protests must be filed on or before the comment date. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the proposed amendment provide copies of their protests only to the party or parties directly involved in the protest.

Persons who wish to comment only on the environmental review of this proposed amendment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link. The Commission strongly encourages electronic filings.

Comment Date: September 5, 2003.

Magalie R. Salas,
Secretary.

[FR Doc. 03-21376 Filed 8-20-03; 8:45 am]

BILLING CODE 6717-01-P